DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Feasibility Study for Conducting the American Community Survey in Puerto Rico.

Form Number(s): ACS-1(PR).

Agency Approval Number: None.

Type of Request: New collection.

Burden: 6,333 hours.

Number of Respondents: 10,000.

Avg Hours Per Response: 38 minutes.

Needs and Uses: The Census Bureau is developing a methodology to collect and update every year demographic, social, economic, and housing data that is essentially the same as the “long-form” data that the Census Bureau traditionally has collected once a decade as part of the decennial census. Since the Census Bureau collects the long-form data only once every 10 years, the data become out of date over the course of the decade. To provide more timely data, the Census Bureau has been developing an alternative called Continuous Measurement (CM). CM is a re-engineering effort that blends the strength of small area estimation with the high quality of current surveys. CM will provide current data throughout the decade for small areas and small subpopulations. CM would also provide a mechanism for identifying and sampling these types of groups for future surveys providing a great advantage to the federal statistical system. The American Community Survey is the survey the Census Bureau uses for the CM program. The current plans for CM call for putting the American Community Survey in place with a new sample of households every month in every county in the United States and in Puerto Rico starting in 2003. Collecting these data from a new sample of households every month will not only provide more timely data, but will lessen respondent burden in the decennial census.

In preparation for the American Community Survey in Puerto Rico in 2003, the Census Bureau will conduct a feasibility study to assess the operational implications of using the American Community Survey data collection methods in Puerto Rico. The current design of the American Community Survey relies on three methods of data collection: mailout/mailback, computer-assisted telephone interviewing (CATI), and computer-assisted personal interviewing (CAPI). We will mail the survey to selected sample households in Puerto Rico. We will use CATI to conduct telephone interviews for all households that do not respond by mail and for which we are able to obtain telephone numbers. We will not use CAPI in Puerto Rico during this feasibility study. We will take advantage of personal visit methods used in Puerto Rico during Census 2000. The primary need for the feasibility study is to determine whether the current data collection procedures used stateside are appropriate for use in Puerto Rico.

Affected Public: Individuals or households.

Frequency: One time.

Respondent's Obligation: Mandatory.

Legal Authority: Title 13 U.S.C., Section 182.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: April 6, 2001.
Madeleine Clayton,
Departmental Paperwork Clearance Officer, Office of the Chief Information Officer.

[FR Doc. 01-8922 Filed 4-10-01; 8:45 am]

BILLING CODE 3510-07-P